DEPARTMENT OF ENERGY

Federal Energy Regulatory Commission

Notice of Application for Amendment of License and Soliciting Notice of Application for Amendment of License and Soliciting Comments, Motions To Intervene, and Protests

June 26, 2002.

Take notice that the following application has been filed with the Commission and is available for public inspection:

a. Application Type: Application to Amend License to remove unnecessary property from within the project boundary.

b. Project No: 2692-030.

c. Date Filed: June 4, 2002.

d. Applicant: Duke Power.

e. Name of Project: Nantahala Hydroelectric Project.

f. Location: The project is located on the Nantahala River, Dick Creek, and White Oak Creek in Clay and Macon Counties, North Carolina.

g. Filed Pursuant to: Federal Power Act, 16 USC 791(a) 825(r) and §§ 799 and 801.

h. Applicant Contact: Mr. Jeff G. Lineberger, Manager of Hydro Licensing, Duke Power, 526 South Church Street, P.O. Box 1006, Charlotte, NC 28201-1006 Tel: (704) 382-5942.

i. FERC Contact: Any questions on this notice should be addressed to Mr. Jake Tung at (202) 219-2663 or by e-mail at hong.tung@ferc.fed.us.

j. Deadline for filing comments and/or motions: July 29, 2002.

All documents (original and eight copies) should be filed with: Magalie R. Salas, Secretary, Federal Energy Regulatory Commission, 888 First Street, N.E., Washington DC 20426. Please include the project number (2692-030) on any comments or motions filed.

k. Description of Filing: Duke Power proposes to remove unnecessary property from within the project boundary and clarify project boundaries containing access roads and other minor administrative changes.

l. Locations of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's web site at http://www.ferc.gov under the “e-Filing” link.

Linwood A. Watson, Jr.,
Deputy Secretary.

[FR Doc. 02-16616 Filed 7-1-02; 8:45 am]

BILLING CODE 6717-01-P